DEPARTMENT OF LABOR

Employment and Training Administration

[TA-W-59,520]

LeeMAH Electronics, Inc., San Francisco, CA; Notice of Revised Determination on Reconsideration

By letter dated August 23, 2006, a petitioner requested administrative reconsideration regarding the Department's Negative Determination Regarding Eligibility to Apply for Worker Adjustment Assistance, applicable to the workers of the subject firm.

The initial investigation resulted in a negative determination signed on July 20, 2006 was based on the finding that there were no increased imports of printed circuit boards and cable assemblies and there was no shift of production to a foreign source during the relevant period. The workers were separately identifiable by product. The denial notice was published in the Federal Register on August 4, 2006 (71 FR 44320).

To support the request for reconsideration, the petitioner supplied additional information regarding company imports of like or directly competitive products with those produced at the subject firm.

The review of the case revealed that workers of the subject firm produce printed circuit boards at a plant on Folsom Street and cable assemblies at a plant on Pacific Avenue and that workers are separately identifiable by product line and location.

Upon further contact with the subject firm's company official, it was revealed that the subject firm decreased domestic production of printed circuit boards, while increasing its reliance on imports of printed circuit boards from 2004 to 2005 and from January through May of 2006 when compared with the same period in 2005.

The investigation also revealed that workers of LeeMAH Electronics, Inc., San Francisco, California, may be eligible for TAA on the basis of a secondary upstream supplier impact. The Department conducted an investigation of subject firm workers on the basis of secondary impact. It was revealed that LeeMAH Electronics, Inc., San Francisco, California supplied cable assemblies for production of test, measurement and radio equipment, and at least 20 percent of its production or sales is supplied to a manufacturer whose workers were certified eligible to apply for adjustment assistance.

In accordance with Section 246 of the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with circuit boards produced at LeeMAH Electronics, Inc., San Francisco, California, contributed importantly to the declines in sales or production and to the total or partial separation of workers at the subject firm. Also, after careful review of the facts obtained in the investigation, I determine that workers of Electronics, Inc., San Francisco, California engaged the production of cable assemblies qualify as adversely affected secondary workers under Section 222 of the Trade Act of 1974, as amended. In accordance with the provisions of the Act, I make the following certification:

All workers of LeeMAH Electronics, Inc., San Francisco, California, who became totally or partially separated from employment on or after June 2, 2005 through two years from the date of this certification, are eligible to apply for adjustment assistance under Section 223 of the Trade Act of 1974, and are eligible to apply for alternative trade adjustment assistance under Section 246 of the Trade Act of 1974.

Signed in Washington, DC, this 25th day of October 2006.
Elliott S. Kushner,
Certifying Officer, Division of Trade Adjustment Assistance.

[FR Doc. E6-18354 Filed 10-31-06; 8:45 am]

BILLING CODE 4510-30-P